DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 2, 2001.

Interested persons are invited to submit written comments regarding the subject matter of the investigations to the Director, Division of Trade Adjustment Assistance, at the address shown below, not later than April 2, 2001.

The petitions filed in this case are available for inspection at the Office of the Director, Division of Trade Adjustment Assistance, Employment and Training Administration, U.S. Department of Labor, Room C-5311, 200 Constitution Avenue, NW., Washington, DC 20210.

Signed at Washington, DC this 20th day of February, 2001.
Edward A. Tomchick,
Director, Division of Trade Adjustment Assistance.

Appendix
[Petitions instituted on 02/20/2001]
TA-W | Subject firm (petitioners) | Location | Date of petition | Product(s)
38,684 | Ashley Leigh (Wkrs) | Hillsville, VA | 02/05/2001 | Sportswear
38,685 | Hendrickson Spring Boler (Wkrs) | Chicago, IL | 01/31/2001 | Truck Springs
38,686 | Pilling Weck (Wkrs) | Irvington, NJ | 01/31/2001 | Surgical Scissors
38,687 | Outboard Marine—OMC (Wkrs) | Lebanon, MO | 01/29/2001 | Outboard Motors
38,688 | Cooper Tools Nicholson (Co.) | Greenville, MS | 02/05/2001 | Hacksaw Blades
38,689 | Sony Disc Manufacturing (Co.) | Carrollton, GA | 01/30/2001 | Recording Tape
38,690 | C-Cor.net (Wkrs) | State College, PA | 02/06/2001 | Cable Television Amplifiers
38,691 | Cone Mills Corp. (Wkrs) | Marion, SC | 02/05/2001 | Printed Piece Goods
38,692 | Isaacson and Kater Button (Co.) | Cleveland, OH | 01/22/2001 | Buttons
38,693 | Summit Timber Co. (Co.) | Darrington, WA | 01/25/2001 | Dimension Lumber
38,694 | Thrall Cor Manufacturing (Co.) | Chicago Heights, IL | 01/15/2001 | Railroad Cars
38,695 | Drummond Coal Co. (Wkrs) | Jasper, AL | 01/30/2001 | Coal
38,696 | Purolator Product (UAW) | Elmira, NY | 02/02/2001 | Starter Drives and Fuel Pumps
38,697 | BP Exploration Alaska (Co.) | Anchorage, AK | 01/31/2001 | Oil and Gas Exploration and Production
38,698 | Powermatic Corp. (USWA) | McMinnville, TN | 02/08/2001 | Wood Working Machinery
38,699 | General Electric (Wkrs) | Morrison, IL | 02/02/2001 | Cold Appliance Controls
38,700 | Challenger Electric Co. (Wkrs) | Pageland, SC | 01/16/2001 | Street Light Assembly
38,701 | Woodgrain Millwork, Inc (Co.) | Fruitland, ID | 02/02/2001 | Mouldings, Door Parts, Window Parts
38,702 | Airtex Products (Wkrs) | Fairfield, Il | 01/29/2001 | Water Pump and Fuel Pump Components
38,703 | Olsonite Corp. (Wkrs) | Algmoma, WI | 02/05/2001 | Toilet Seats
38,704 | Accuride Corp. (Wkrs) | Henderson, KY | 02/01/2001 | Steel Rims and Wheels
38,705 | Empire Specialty Steel (USWA) | Dunkin, NY | 01/29/2001 | Specialty Stainless Steel
38,706 | Sample Service (Wkrs) | Long Island, NY | 02/07/2001 | Books, Bindery and Sample Cards
38,707 | Philips Consumer Elec. (Wkrs) | Knoxville, TN | 12/29/2000 | Design and Development Services
38,708 | AAA Action Roofing (Co.) | Terrance, CA | 02/08/2001 | Roofing
38,709 | Flint Ink Corp. (Wkrs) | W. St. Paul, MN | 01/31/2001 | Offset Sheetfed Inks
38,710 | Sure Cutting Services (Wkrs) | Opa Lock, FL | 01/25/2001 | Apparel Cutting Services
38,711 | Hart Schaffner & Marx (UNITE) | Rochester, IN | 02/08/2001 | Men's Clothing
38,712 | Dave Szalay Logging (Co.) | Whitefish, MT | 02/07/2001 | Timber Products
38,713 | Agrifrozen Foods (IBT) | Salem, OR | 02/09/2001 | Vegetable Processing/Warehouse
38,714 | Spec Cast (Wkrs) | Dyersville, IA | 02/03/2001 | Die Cast Machinery
38,715 | Vilter Manufacturing Corp (USWA) | Cudahu, WI | 02/09/2001 | Pressure Vessels
38,716 | Toshiba America Info. (Wkrs) | Irvine, CA | 02/09/2001 | Printed Circuit Board Operation

[FR Doc. 01-6968 Filed 3-20-01; 8:45 am]

BILLING CODE 4510-30-M